SECURITIES AND EXCHANGE COMMISSION

[Release No. 34-92905; File No. SR-NASDAQ-2021-040]

Self-Regulatory Organizations; The Nasdaq Stock Market LLC; Notice of Designation of a Longer Period for Commission Action on a Proposed Rule Change To Establish the “Extended Trading Close” and a New “Extended Trading Close” Order Type

September 9, 2021.

On July 12, 2021, The Nasdaq Stock Market LLC filed with the Securities and Exchange Commission (“Commission”), pursuant to Section 19(b)(1) of the Securities Exchange Act of 1934 (“Act”) ¹ and Rule 19b-4 thereunder,² a proposed rule change to add Equity 4, Rule 4755 and amend Equity 4, Rules 4702 and 4703 to establish the “Extended Trading Close,” as well as the “ETC Eligible LOC” and “Extended Trading Close” order types. The proposed rule change was published for comment in the Federal Register on July 28, 2021.³

¹ 15 U.S.C. 78s(b)(1).

² 17 CFR 240.19b-4.

³ See Securities Exchange Act Release No. 92466 (July 22, 2021), 86 FR 40667. The comment letter received on the proposed rule change is available on the Commission's website at: https://www.sec.gov/comments/sr-nasdaq-2021-040/srnasdaq2021040.htm.

Section 19(b)(2) of the Act ⁴ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day after publication of the notice for this proposed rule change is September 11, 2021.

⁴ 15 U.S.C. 78s(b)(2).

The Commission is extending the 45-day time period for Commission action on the proposed rule change. The Commission finds that it is appropriate to designate a longer period within which to take action on the proposed rule change so that it has sufficient time to consider the proposed rule change and the comment letter received.

Accordingly, the Commission, pursuant to Section 19(b)(2) of the Act,⁵ designates October 26, 2021, as the date by which the Commission shall either approve or disapprove, or institute proceedings to determine whether to disapprove, the proposed rule change (File Number SR-NASDAQ-2021-040).

⁵ Id.

⁶ 17 CFR 200.30-3(a)(31).

For the Commission, by the Division of Trading and Markets, pursuant to delegated authority.⁶
J. Matthew DeLesDernier,
Assistant Secretary.

[FR Doc. 2021-19850 Filed 9-14-21; 8:45 am]

BILLING CODE 8011-01-P